DEPARTMENT OF AGRICULTURE

Forest Service

Forest Service Handbook 5309.11, Chapter 30 Law Enforcement: Public Notice and Comment for Closures of National Forest System Lands to Hunting, Fishing, or Recreational Shooting

AGENCY: Forest Service, Agriculture (USDA).

ACTION: Notice of availability for public comment.

SUMMARY: The Department of Agriculture (USDA), United States Forest Service (Forest Service), is issuing directives implementing the public notice and comment requirements for issuance of orders that temporarily or permanently close National Forest System lands to hunting, fishing, or recreational shooting, except in an emergency.

DATES: Comments must be received in writing by September 16, 2020.

ADDRESSES: The proposed directive may be reviewed at and comments may be submitted electronically to https://cara.ecosystem-management.org/Public/CommentInput?project=ORMS-2312. Written comments may be mailed to Jamie Schwartz, National Program Manager, Shooting Sports, Recreation, Heritage, and Volunteer Resources, 201 14th Street SW, Washington, DC 20024. All timely received comments, including names and addresses, will be placed in the record and will be available for public inspection at https://cara.ecosystem-management.org/Public/ReadingRoom?project=ORMS-2312.

FOR FURTHER INFORMATION CONTACT: Jamie Schwartz, National Program Manager, Shooting Sports, 202-205-1589 or james.schwartz@usda.gov. Individuals using telecommunication devices for the deaf may call the Federal Information Relay Service at 800-877-8339 between 8 a.m. and 8 p.m. Eastern Time, Monday through Friday.

SUPPLEMENTARY INFORMATION: The Forest Service has determined that the definition of emergency contained in this proposed directive formulates a standard, criteria, or guideline applicable to Forest Service programs and is therefore subject to public notice and comment under 36 CFR 216. Newly enacted section 4103 of the John D. Dingell, Jr., Conservation, Management, and Recreation Act, Public Law 116-9, Title IV (section 4103), requires the Forest Service to provide advance notice of an opportunity for public comment as well as an opportunity for public comment before permanently or temporarily closing any National Forest Service lands to hunting, fishing, or recreational shooting, except in an emergency. The Forest Service is issuing directives in Law Enforcement and Investigations Handbook 5309.11, Chapter 30, that re-designate existing section 34 as section 35 and add a new section 34 to implement section 4103. New section 34 defines the term “emergency” for purposes of section 4103. The Forest Service has determined that the definition of “emergency” contained in the directives formulates a standard, criterion, or guideline applicable to a Forest Service program and is therefore publishing that definition for public comment under 36 CFR part 216. The Forest Service is seeking public comment only on the definition of “emergency”. The Forest Service has determined that the remaining provisions in the directive do not formulate standards, criteria, or guidelines applicable to a Forest Service program and therefore are not subject to the notice and comment requirements under 36 CFR 216.

After the public comment period closes, the Forest Service will consider timely comments that are within the scope of the proposed definition of emergency in the development of the final directive. A notice of the final directive, including a response to timely comments, will be posted on the Forest Service's web page at https://www.fs.fed.us/about-agency/regulations-policies/comment-on-directives.

Tina Johnna Terrell,
Associate Deputy Chief, National Forest System.

[FR Doc. 2020-17661 Filed 8-14-20; 8:45 am]

BILLING CODE 3411-15-P